DEPARTMENT OF ENERGY

Federal Energy Regulatory Commission

[Project No. 2879-012]

Green Mountain Power Corporation; Notice of Application Tendered For Filing With the Commission and Establishing Procedural Schedule for Licensing and Deadline for Submission of Final Amendments

Take notice that the following hydroelectric application has been filed with the Commission and is available for public inspection.

a. Type of Application: New Major License.

b. Project No.: 2879-012.

c. Date Filed: January 30, 2020.

d. Applicant: Green Mountain Power Corporation (Green Mountain Power).

e. Name of Project: Bolton Falls Hydroelectric Project.

f. Location: The existing project is located on the Winooski River in Washington County, Vermont. The project does not affect federal lands.

g. Filed Pursuant to: Federal Power Act, 16 U.S.C. 791(a)-825(r).

h. Applicant Contact: Mr. John Greenan, P.E., Engineer, Green Mountain Power Corporation, 1252 Post Road, Rutland, Vermont 05701; phone: (802) 770-2195 or email at John.Greenan@greenmountainpower.com.

i. FERC Contact: Michael Tust, (202) 502-6522 or michael.tust@ferc.gov.

j. This application is not ready for environmental analysis at this time.

k. Project Description: The project consists of the following constructed facilities: (1) A 92-foot-high, 275-foot-wide timber crib dam with a 5-foot-high rubber dam atop the timber crib construction with a maximum crest elevation of 397 feet referenced to National Geodetic Vertical 1929 Datum and a 196-foot-long reinforced concrete spillway cap at a crest elevation of 392 feet; (2) a 59-acre impoundment with a total storage capacity of 300 acre-feet at a normal operating elevation of 397 feet; (3) a forebay with two concrete intakes, each with a 3-inch-spaced trashrack; (4) two 10-foot diameter, 120-foot-long steel penstocks encased in concrete, extending from each intake through the dam to the generating units; (5) a 73-foot-long, 57-foot-wide powerhouse containing two horizontal, 3,750-kilowatt Kaplan turbines with a total installed capacity of 7,500 kilowatts; (6) a 36-inch diameter steel bypass pipe with an invert elevation of 383 feet that discharges near the left side of the spillway base; (7) an approximately 130-foot long, 5-kilovolt underground transmission line connecting to an adjacent switchyard; (8) a 600-foot-long, 34.5-kilovolt overhead transmission line connecting to a second switchyard; and (9) appurtenant facilities. Green Mountain Power also maintains day-use recreation facilities at the project, including a picnic area, parking lot, trails, fishing access, and a canoe launch and portage trail.

Green Mountain Power proposes to operate in automated run-of-river mode as it does under its current practice but instead of providing a 300-cfs minimum flow into the bypassed reach via spill over the dam or through the powerhouse, Green Mountain Power proposes to provide a seasonal aesthetic spill flow of 75 cfs or inflow, whichever is less, into the bypassed reach during daylight hours from April 1 through December 15. Green Mountain Power would only provide leakage flows from the dam into the bypassed reach during nighttime hours from April 1 through December 15 as well as during day and nighttime hours from December 16 through March 31. Under normal flow conditions during periods when aesthetic spillage is required, Green Mountain proposes to maintain the impoundment at an elevation of 397.25 feet. During periods when aesthetic spillage over the dam is not required, Green Mountain Power proposes to maintain the reservoir at an elevation of 397 feet as it does under its existing operation. In addition to operating and maintaining its existing recreation facilities, Green Mountain Power proposes the following improvements to its recreation facilities: (1) Relocate the existing parking area out of the floodplain; (2) place barriers and signage to redirect foot traffic away from areas with state-designated rare creeping lovegrass at the day-use area; (3) add two picnic tables and an information kiosk to the day-use area; (4) improve signage at the portage landing and along the portage trail for boaters; (5) construct an improved portage landing; and (6) clear brush along the portage trail.

Green Mountain Power is proposing to remove approximately 9.2 acres of lands and water from the current project boundary because these areas do not contain any project recreation facilities and are not necessary for project operation and maintenance. These areas include 4.2 acres of land south of the existing portage trail and northwest of the VELCO transmission line, 2.9 acres of land south of Power Plant Road, and 2.1 acres of the Winooski River and shoreline downstream of the dam located outside of the project bypassed reach and tailrace. In addition, Green Mountain Power is proposing to add approximately 7.6 acres of land to the project boundary. These areas include: (1) Approximately 1.4 acres of land along a secondary access road located to the south of the portage trail take-out; (2) approximately 4.1 acres of land along the middle section of the portage trail to fully enclose the portage trail; and (3) approximately 2.1 acres of lands along the primary project access road to provide vehicular and pedestrian access to the project for operation and maintenance purposes as well as access to the project's day-use recreation area.

l. Locations of the Application: A copy of the application is available for review at the Commission in the Public Reference Room or may be viewed on the Commission's website at http://www.ferc.gov using the eLibrary link. Enter the docket number excluding the last three digits in the docket number field to access the document. For assistance, please contact FERC Online Support at FERCOnlineSupport@ferc.gov, (866) 208-3676 (toll free), or (202) 502-8659 (TTY).

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | March 2020.
Filing of recommendations, preliminary terms and conditions, and fishway prescriptions | May 2020.
Commission issues Draft Environmental Assessment (EA) | November 2020.
Comments on Draft EA | December 2020.
Modified terms and conditions | February 2021.
Commission issues Final EA | May 2021.

o. Final amendments to the application must be filed with the Commission no later than thirty (30) days from the issuance date of the notice of ready for environmental analysis.

Dated: February 10, 2020.
Kimberly D. Bose,
Secretary.

[FR Doc. 2020-03064 Filed 2-14-20; 8:45 am]

BILLING CODE 6717-01-P